DEPARTMENT OF LABOR

Employment and Training Administration

[TA-W-54,048; TA-W-54,048A; TA-W-54,048B; and TA-W-54,048D]

Westpoint Stevens, Dunson Facility, Bed Products Division, LaGrange, GA; Westpoint Stevens, Inc., Now Known As Westpoint Home, Inc, Lanier Facility, Bed Products Division, Valley, AL, Dixie Facility, Bath Products Division, Lagrange, GA, and Sheeting Division Office Opelika, AL; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on February 19, 2004, applicable to workers of the WestPoint Stevens, Inc., Dunson Facility, Bed Products Division, LaGrange, Georgia, Lanier Facility, Bed Products Division, Valley, Alabama and Dixie Facility, Bath Products Division, LaGrange, Georgia. The notice was published in the Federal Register on March 12, 2004 (69 FR 11889). The certification was amended on April 6, 2005 to included workers of the Sheeting Division Office of the subject firm, in Opelika, Alabama. The notice was published in the Federal Register on April 25, 2005 (70 FR 21252).

At the request of a company official, the Department reviewed the certification for workers of the subject firm. The workers are engaged in the production of sheeting materials.

Information submitted to the Department shows that on August 8, 2005, American Real Estate Partners purchased WestPoint Stevens, Inc. and is now known as WestPoint Home, Inc.

Accordingly, the Department is amending this certification to reflect the new ownership.

The intent of the Department's certification is to include all workers of WestPoint Stevens, Inc., Dunson Facility, Bed Products Division, WestPoint Stevens, Lanier Facility, Bed Products Division, WestPoint Stevens, Dixie Facility, Bath Products Division and the WestPoint Stevens, Sheeting Division Office who were adversely affected by increased imports.

The amended notice applicable to TA-W-54,048, TA-W-54,048A, TA-W-54,048B and TA-W-54,048D are hereby issued as follows:

All workers of WestPoint Stevens, Inc., Now Known as WestPoint Home, Inc., Dunson Facility, Bed Products Division, LaGrange, Georgia (TA-W-54,048), WestPoint Stevens, Inc., Now Known as WestPoint Home, Inc., Lanier Facility, Bed Products Division, Valley, Alabama (TA-W-54,048A), West Point Stevens, Inc., Now Known as WestPoint Home, Inc., Dixie Facility, Bath Products, LaGrange, Georgia (TA-W-54,048B), and WestPoint Stevens, Inc., Now Known as WestPoint Home, Inc., Sheeting Division Office, Opelika, Alabama (TA-W-54,048D), who became totally or partially separated from employment on or after January 15, 2003, through February 19, 2006, are eligible to apply for adjustment assistance under Section 223 of the Trade Act of 1974, and are also eligible to apply for alternative trade adjustment assistance under Section 246 of the Trade Act of 1974.

Signed at Washington, DC, this 18th day of August, 2005.
Elliott S. Kushner,
Certifying Officer, Division of Trade Adjustment Assistance.

[FR Doc. E5-5183 Filed 9-26-05; 8:45 am]

BILLING CODE 4510-30-P